DEPARTMENT OF THE INTERIOR

Fish and Wildlife Service

[FWS-HQ-WSFR-2021-N179; FVWF97820900000-XXX-FF09W13000 and FVWF54200900000-XXX-FFO9W13000; OMB Control Number 1018-0088]

Agency Information Collection Activities; Submission to the Office of Management and Budget for Review and Approval; National Survey of Fishing, Hunting, and Wildlife-Associated Recreation (FHWAR) Contests

AGENCY: Fish and Wildlife Service, Interior.

ACTION: Notice of information collection; request for comment.

SUMMARY: In accordance with the Paperwork Reduction Act of 1995 (PRA), we, the U.S. Fish and Wildlife Service (Service), are proposing to reinstate a previously approved information collection with revisions.

DATES: Interested persons are invited to submit comments on or before September 27, 2021.

ADDRESSES: Written comments and recommendations for the proposed information collection should be sent within 30 days of publication of this notice to www.reginfo.gov/public/do/PRAMain. Find this particular information collection by clicking on the link “Currently under Review—Open for Public Comments” or by using the search function. Please provide a copy of your comments to the Service Information Collection Clearance Officer, U.S. Fish and Wildlife Service, MS: PRB/PERMA (JAO/3W), 5275 Leesburg Pike, Falls Church, VA 22041-3803 (mail); or by email to Info_Coll@fws.gov. Please reference OMB Control Number 1018-0088 in the subject line of your comments.

FOR FURTHER INFORMATION CONTACT: Madonna L. Baucum, Service Information Collection Clearance Officer, by email at Info_Coll@fws.gov, or by telephone at (703) 358-2503. Individuals who are hearing or speech impaired may call the Federal Relay Service at 1-800-877-8339 for TTY assistance. You may also view the information collection request (ICR) at http://www.reginfo.gov/public/do/PRAMain.

SUPPLEMENTARY INFORMATION: In accordance with the Paperwork Reduction Act of 1995 (PRA, 44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

On May 14, 2020, we published in the Federal Register (85 FR 28972) a notice of our intent to request that OMB approve this information collection. In that notice, we solicited comments for 60 days, ending on July 13, 2020. We received the following comments in response to that notice:

Comment 1: Email comment received on May 15, 2020, from Jean Public; however, her comment did not address the information collection requirements.

Agency Response to Comment 1: No response required.

Comment 2: Email comment received on July 9, 2020, from Holly Huchko, Endangered Species Act Program Specialist/Sport Fish Restoration Coordinator, on behalf of the Oregon Department of Fish and Wildlife (ODFW):

Ms. Huchko emphasized that the national data generated by the FHWAR are invaluable for assessing engagement in and spending on outdoor recreation in Oregon. She stated that the FHWAR survey is also essential to USFWS WSFR program and ODFW, since coastal States must obligate Sport Fish Restoration program grant funds so that the ratio is equal to the resident marine and freshwater anglers (50 CFR 80.65-66). Ms. Huchko shared the understanding that for the 2022 and future FHWAR surveys, States will need to pay for State level data if desired, though USFWS will continue to provide the freshwater/saltwater percent of resident anglers in coastal States at no cost. This information may be used for determining the Sport Fish Restoration saltwater/freshwater split. Ms. Huchko's understanding is accurate. Finally, Ms. Huchko urged that the FHWAR continue to be administered in both mail and digital (web) modes, so as to reduce barriers to participation.

Agency Response to Comment 2: The methodology for the 2022 FHWAR, described above, is responsive to the needs identified in Ms. Huchko's comments. Oregon and other coastal States will continue to receive data on the number of freshwater/saltwater anglers within their respective State, free of cost. The 2022 FHWAR will also be fielded in both mail and web modes.

Comment 3: Email comment received on July 10, 2020, from Adam Kreger, Martha C. Nussbaum Fellow—Wildlife Law Program, on behalf of Friends of Animals:

On behalf of Friends of Animals, Mr. Kreger endorsed the FHWAR data collection. He pointed to trends in decreasing participation in hunting, evolving views on hunting and fishing among Americans, and the need to gather reliable data on these topics. Kreger argues that FWS and State agencies should use the FHWAR and other surveys to assess “future needs and demands”—namely, in the areas of wildlife observation and photography.

Agency Response to Comment 3: The FHWAR questionnaires will systematically collect information about three major activities: Fishing, hunting, and wildlife watching. Our processes and questionnaires devote equal emphasis to each of these three major activities.

The survey defines wildlife watching as taking a special interest in observing or viewing wildlife through any of the following activities:

• Closely observing wildlife or trying to identify types of wildlife you did not know;

• Photographing wildlife;

• Feeding birds or other wildlife;

• Maintaining natural areas such as wooded lots, hedgerows, or open fields of at least one-quarter acre for the benefit of wildlife, not including farmland;

• Maintaining plantings such as shrubs or agricultural crops for the benefit of wildlife; and

• Visiting parks and natural areas to observe, photograph, or feed wildlife.

The data from these items will allow for analyses of trends in wildlife watching among Americans, including but not limited to wildlife observation and photography. Similarly, detailed questions about hunting and fishing will allow for trend analysis surrounding those major activities.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The information collected for the National Survey of Fishing, Hunting and Wildlife-Associated Recreation (FHWAR) assists the Fish and Wildlife Service in administering the Wildlife and Sport Fish Restoration grant programs. The 2022 FHWAR survey will provide up-to-date information on the uses and demands for wildlife-related recreation resources and a basis for developing and evaluating programs and projects to meet existing and future needs.

We collect the information in conjunction with carrying out our responsibilities under the Dingell-Johnson Sport Fish Restoration Act (16 U.S.C. 777-777m) and the Pittman-Robertson Wildlife Restoration Act (16 U.S.C. 669-669i). Under these acts, as amended, we provide approximately $1 billion in grants annually to States for projects that support sport fish and wildlife management and restoration, including:

• Improvement of fish and wildlife habitats,

• Fishing and boating access,

• Fish stocking, and

• Hunting and fishing opportunities.

We also provide grants for aquatic education and hunter education, maintenance of completed projects, and research into problems affecting fish and wildlife resources. These projects help to ensure that the American people have adequate opportunities for fish and wildlife recreation. We conduct the survey about every 5 years. The 2022 FHWAR survey will be the 14th conducted since 1955. We sponsor the survey at the States' request, which is made through the Association of Fish and Wildlife Agencies. We contract with the National Opinion Research Center (NORC) at the University of Chicago, which collects the information using internet, telephone, or mail-in paper-and-pencil instrument (PAPI).

Respondents are invited to take the survey with a mailed letter. NORC will select a sample of sportspersons and wildlife watchers from a household screen and conduct three detailed interviews during the survey year. The survey collects information on the number of days of participation, species of animals sought, and expenditures for trips and equipment. Information on the characteristics of participants includes age, income, sex, education, race, and State of residence. The Wave 3 Freshwater/Saltwater Ratio Questionnaire is designed to get freshwater and saltwater fishing data for coastal states. The Wildlife and Sportfish Restoration Program is required to divide fishing management funds according to the ratio of freshwater and saltwater anglers in each coastal state.

Federal and State agencies use information from the survey to make policy decisions related to fish and wildlife restoration and management. Participation patterns and trend information help identify present and future needs and demands. Land management agencies use the data on expenditures and participation to assess the value of wildlife-related recreational uses of natural resources. Wildlife-related recreation expenditure information is used to estimate the impact on the economy and to support the dedication of tax revenues for fish and wildlife restoration programs.

Title of Collection: National Survey of Fishing, Hunting, and Wildlife-Associated Recreation (FHWAR).

OMB Control Number: 1018-0088.

Form Number: None.

Type of Review: Reinstatement of a previously approved collection.

Respondents/Affected Public: Individuals/households.

Respondent's Obligation: Voluntary.

Frequency of Collection: Screener data collection will be conducted from January through March 2022. The first detailed sportsperson and wildlife-watcher interviews will be conducted in May 2022. The second detailed interviews will be conducted in September 2022. The third and final detailed interviews will be conducted in January 2023.

Total Estimated Annual Nonhour Burden Cost: None.

Activity | Estimated number of household responses | Median completion time per response (minutes) | Estimated burden hours *
2022 Screener Survey:
Screener: Web | 27,639 | 9 | 4,146
Screener: Phone | 1,000 | 15 | 250
Screener: PAPI | 31,361 | 10 | 5,227
2022 Wave 1 Survey:
Wave Questionnaires: Web | 43,068 | 13 | 9,331
Wave Questionnaires: Phone | 833 | 22 | 305
Wave Questionnaires: PAPI | 6,972 | 14 | 1,627
2022 Wave 2 Survey:
Wave Questionnaires: Web | 32,173 | 13 | 6,971
Wave Questionnaires: Phone | 833 | 22 | 305
Wave Questionnaires: PAPI | 3,645 | 14 | 851
2022 Wave 3 Survey:
Wave Questionnaires: Web | 46,773 | 13 | 10,134
Wave Questionnaires: Phone | 950 | 22 | 348
Wave Questionnaires: PAPI | 11,811 | 14 | 2,756
Wave 3 Fishing Only Questionnaire | 13,500 | 3 | 675
Grand Total | 220,558 |  | 42,926
* Rounded.

An agency may not conduct or sponsor and a person is not required to respond to a collection of information unless it displays a currently valid OMB control number.

The authority for this action is the Paperwork Reduction Act of 1995 (44 U.S.C. 3501 et seq.).

Madonna Baucum,
Information Collection Clearance Officer, U.S. Fish and Wildlife Service.

[FR Doc. 2021-18359 Filed 8-25-21; 8:45 am]

BILLING CODE 4333-15-P